DEPARTMENT OF AGRICULTURE

Office of the Chief Information Officer; Notice of Request for Extension of a Currently Approved Information Collection

AGENCY: Office of the Chief Information Officer (OCIO), USDA.

ACTION: Notice and request for comments.

SUMMARY: In accordance with the Paperwork Reduction Act of 1995 (44 U.S.C. Chapter 35), this notice announces the intention of the Office of the Chief Information Officer (OCIO) to request approval for the continuation of information collection necessary to allow USDA customers to securely and confidently share data and receive services electronically. Authority for obtaining information from customers is included in the Freedom to E-File Act, the Electronic Signatures in Global and National Commerce Act (E-SIGN), and the E-Government Act of 2002. Customer information is collected through the USDA eAuthentication Service (eAuth), located at http://www.eauth.egov.usda.gov. The USDA eAuth provides the public and government businesses with a single sign-on capability for USDA applications, management of user credentials, and verification of identity, authorization, and electronic signatures. USDA's eAuth obtains customer information through an electronic self registration process provided through the eAuth Web site. This voluntary online self registration process enables USDA customers, as well as employees, to obtain accounts as authorized users that will provide single sign-on capability to access USDA Web applications and services via the Internet. The USDA eAuthentication system stems from the Web-based Centralized Authentication and Authorization Facility (WebCAAF), the former USDA authentication system.

DATES: Comments on this notice must be received by November 9, 2009 to be assured of consideration.

Additional Information or Comments: Shari Erickson, Program Manager, Office of the Chief Information Officer, United States Department of Agriculture, 301 S. Howes St., Suite 309, Fort Collins, CO 80521 or via e-mail at shari.erickson@ocio.usda.gov.

SUPPLEMENTARY INFORMATION:

Title: Office of the Chief Information Officer eAuthentication Service.

OMB Number: 0503-0014.

Expiration Date of Approval: February 28, 2010.

Type of Request: Extension and revision of a currently approved information collection.

Abstract: The USDA OCIO has developed eAuth as a management and technical process that addresses user authentication and authorization prerequisites for providing services electronically. The process requires a one-time electronic self registration to obtain an eAuth account for each USDA customer desiring access to online services or applications that require user authentication. USDA customers can self register for a Level 1 or Level 2 Access account. A Level 1 Access account provides users with limited access to USDA Web site portals and applications that have minimal security requirements. A Level 2 Access account enables users to conduct official electronic business transactions via the Internet, enter into a contract with the USDA, and submit forms electronically via the Internet to USDA agencies. Due to the increased customer access associated with a Level 2 Access account, customers must be authenticated in person at a USDA Service Center by a local registration authority, in addition to an electronic self registration. Once an account is activated, customers may use the associated user ID and password that they created to access USDA resources that are protected by eAuth. It is estimated to take 8 minutes to complete the self registration process for a Level 1 Access account. A Level 2 Access account registration is estimated to be completed in 1 hour 40 minutes due to the travel time to the USDA Service Center.

Estimate of Burden: Public reporting burden for this collection of information is estimated to average 8 minutes per Level 1 account and 1 hour and 40 minutes per Level 2 account.

Respondents: Individual USDA Customers.

Estimated Number of Respondents: 44,088 Level 1 and 18,096 Level 2.

Estimated Number of Responses per Respondent: 1.

Estimated Total Annual Burden on Respondents: 35,952 hours.

Comments are invited on (1) whether the proposed collection of information is necessary for the proper performance of the functions of the agency, including whether the information will have practical utility; (2) the accuracy of the agencies' estimate of burden of the proposed collection of information including the validity of the methodology and assumptions used; (3) ways to enhance the quality, utility, and clarity of the information to be collected; and (4) ways to minimize the burden of the collection of the information on those who respond, including the use of appropriate automated, electronic, mechanical, or techniques or other forms of information technology. Comments should be sent to the Desk Officer for Agriculture, Office of Information and Regulatory Affairs, Office of Management and Budget, OIRA_Submission@omb.eop.gov or Fax (202) 395-5806, and to Shari Erickson, Program Manager, Office of the Chief Information Officer, United States Department of Agriculture, 301 S. Howes St., Suite 309, Fort Collins, CO 80521, e-mail shari.erickson@ocio.usda.gov. All comments received will be available for public inspection during regular business hours at the same address. Copies of the information collection may be obtained from Ms. Erickson at the address above. All responses to this notice will be summarized and included in the request for OMB approval. All comments will become a matter of public record.

Christopher L. Smith,
Chief Information Officer, Office of the Chief Information Officer.

[FR Doc. E9-21799 Filed 9-9-09; 8:45 am]

BILLING CODE 3410-KR-P